DEPARTMENT OF LABOR

Occupational Safety and Health Administration

29 CFR Part 1926

[Docket No. OSHA-2025-0040]

RIN 1218-AD70

Construction Illumination

AGENCY: Occupational Safety and Health Administration (OSHA), Labor.

ACTION: Notice of Proposed Rulemaking (NPRM); request for comments.

SUMMARY: The Occupational Safety and Health Administration (OSHA) is proposing to rescind the construction illumination requirements, codified in 29 CFR 1926.26 and 1926.56.

DATES: Comments must be received on or before September 2, 2025.

ADDRESSES:

Written comments: You may submit comments and attachments, identified by Docket No. OSHA-2025-0040, electronically at https://www.regulations.gov, which is the Federal e-Rulemaking Portal. Follow the instructions online for making electronic submissions.

Instructions: All submissions must include the agency's name and the docket number for this rulemaking (Docket No. OSHA-2025-0040). When uploading multiple attachments to regulations.gov, please number all of your attachments because regulations.gov will not automatically number the attachments. This will be very useful in identifying all attachments. For example, Attachment 1—title of your document, Attachment 2—title of your document, Attachment 3—title of your document. For assistance with commenting and uploading documents, please see the Frequently Asked Questions on https://www.regulations.gov.

All comments, including any personal information you provide, are placed in the public docket without change and may be made available online at https://www.regulations.gov. Therefore, OSHA cautions commenters about submitting information they do not want made available to the public or submitting materials that contain personal information (either about themselves or others), such as Social Security Numbers and birthdates.

Docket: The docket for this rulemaking (Docket No. OSHA-2025-0040) is available at https://www.regulations.gov, the Federal eRulemaking Portal. Most exhibits are available at https://www.regulations.gov; some exhibits (e.g., copyrighted material) are not available to download from that web page. However, all materials in the dockets are available for inspection at the OSHA Docket Office.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION: 29 CFR 1926.26 requires construction areas, aisles, stairs, ramps, runways, corridors, offices, shops, and storage areas where work is in progress to be lighted with either natural or artificial illumination. 29 CFR 1926.56 states that construction areas, ramps, runways, corridors, offices, shops, and storage areas must “be lighted to not less than the minimum illumination intensities listed” in a table. The table sets out minimum illumination intensities in foot candles for various areas of operation. 29 CFR 1926.56(a). For areas not covered by the table, the regulation directs employers to use the “American National Standard A11.1-1965, R1970, Practice for Industrial Lighting. 29 CFR 1926.56(b). The requirements of 29 CFR 1926.56 are incorporated by reference in 29 CFR 1926.800, Underground Construction, and 29 CFR 1926.1204, Permit-required confined space program. The incorporation by reference is noted in 29 CFR 1926.6(e)(4), Incorporation by Reference.

OSHA proposes rescinding sections 1926.26 and 1926.56 in their entirety and removing all cross-references to those section. OSHA seeks all comment on that proposal. OSHA's statutory authority for the proposed rescissions can be found in 40 U.S.C. 3704 and 29 U.S.C. 655 and 657.

OSHA is in the process of appointing members to the Advisory Committee on Construction Safety and Health (ACCSH). The agency intends to present this proposed rule to ACCSH once that process is complete. The agency will put the Committee's recommendations on the OSHA website and in the docket for this proposed rule prior to the close of the comment period to allow the public to provide comments on those recommendations.

Table of Contents

I. Executive Summary

II. Pertinent Legal Authority

III. Explanation of the Proposed Rescission

IV. Preliminary Economic Analysis

V. Additional Requirements

VI. Authority and Signature

VII. Regulatory Text

I. Executive Summary

The intent of this proposed rule is to remove from the Code of Federal Regulations OSHA's Construction Illumination Standard, 29 CFR 1926.26 and 1926.56. OSHA's Illumination Standard, 29 CFR 1926.26, requires that construction areas, aisles, stairs, ramps, runways, corridors, offices, shops, and storage areas where work is in progress are lighted with either natural or artificial illumination. The minimum illumination requirements for work areas are contained in Subpart D, 29 CFR 1926.56.¹ OSHA proposes to remove the Construction Illumination Standard because it has determined that the standard is not reasonably necessary or appropriate under section 3(8) of the OSH Act, 29 U.S.C. 652, because it does not reduce a significant risk to workers.

¹ These requirements are incorporated by reference in 29 CFR 1926.800, Underground Construction, and 29 CFR 1926.1204, Permit-required confined space program. They are also cross-referenced in an explanatory note to section 1926.967 of the Electric Power Transmission and Distribution Standard (see 29 CFR 1926.967(d) Note).

II. Pertinent Legal Authority

The purpose of the Occupational Safety and Health Act (29 U.S.C. 651, et seq.) (“the Act” or “the OSH Act”) is “to assure so far as possible every working man and woman in the Nation safe and healthful working conditions and to preserve our human resources” (29 U.S.C. 651(b)). To achieve this goal Congress authorized the Secretary of Labor (“the Secretary”) to promulgate standards to protect workers, including the authority “to set mandatory occupational safety and health standards applicable to businesses affecting interstate commerce” (29 U.S.C. 651(b)(3); see also 29 U.S.C. 654(a)(2) requiring employers to comply with OSHA standards), 29 U.S.C. 655(a) (authorizing summary adoption of existing consensus and established federal standards within two years of the Act's enactment), 29 U.S.C. 655(b) (authorizing promulgation, modification or revocation of standards pursuant to notice and comment)). An occupational safety and health standard is “. . . a standard which requires conditions, or the adoption or use of one or more practices, means, methods, operations, or processes, reasonably necessary or appropriate to provide safe or healthful employment and places of employment” (29 U.S.C. 652(8) (emphasis added)).

Before OSHA may promulgate a health or safety standard, it must find that a standard is reasonably necessary or appropriate within the meaning of section 652(8) of the OSH Act. To impose a safety or health standard “the Secretary is required to make a threshold finding that a place of employment is unsafe—in the sense that significant risks are present and can be eliminated or lessened by a change in practices.” Indus. Union Dep't, AFL-CIO v. Am. Petroleum Inst., 448 U.S. 607, 642 (1980) (“Benzene”). OSHA exercises significant discretion in carrying out its responsibilities under the Act. Indeed, “[a] number of terms of the statute give OSHA almost unlimited discretion to devise means to achieve the congressionally mandated goal” of ensuring worker safety and health. See Lead I, 647 F.2d at 1230 (citation omitted). Thus, where OSHA has chosen some measures to address a significant risk over other measures, parties challenging the OSHA standard must “identify evidence that their [alternative] proposals would be feasible and generate more than a de minimis benefit to worker health.” N. Am.'s Bldg. Trades Unions v. OSHA, 878 F.3d 271, 282 (D.C. Cir. 2017).

OSHA standards must be both technologically and economically feasible. A standard is technologically feasible if the protective measures it requires already exist, can be brought into existence with available technology, or can be created with technology that is reasonably expected to be developed (see Am. Iron and Steel Inst. v. OSHA, 939 F.2d 975, 980 (D.C. Cir. 1991)). Courts have also interpreted technological feasibility to mean that a typical firm in each affected industry or application group will reasonably be able to implement the requirements of the standard in most operations most of the time (see, e.g., Pub. Citizen v. OSHA, 557 F.3d 165, 170-71 (3d Cir. 2009) (citing United Steelworkers of Am., 647 F.2d 1189, 1272). Because this proposed rule would remove existing OSHA requirements from the CFR, OSHA anticipates employers would have no technological issues complying with the rule. Accordingly, the agency finds that the proposed rule is technologically feasible for affected employers.

In determining economic feasibility, OSHA must consider the cost of compliance in an industry rather than on individual employers. In its economic analyses, OSHA “must construct a reasonable estimate of compliance costs and demonstrate a reasonable likelihood that these costs will not threaten the existence or competitive structure of an industry, even if it does portend disaster for some marginal firms” (Am. Iron and Steel Inst., 939 F.2d at 980, quoting United Steelworkers of Am., 647 F.2d at 1272). OSHA has determined that this proposed rule is economically feasible because this action is deregulatory and imposes no additional costs.

The Administrative Procedures Act directs agencies to include in each rule adopted “a concise general statement of [the rule's] basis and purpose” (5 U.S.C. 553(c)); cf. 29 U.S.C. 655(e) (requiring the Secretary to publish a “statement of reasons” for any standard promulgated)). This notice satisfies this concise statement requirement.

III. Explanation of the Proposed Rescission

In OSHA's judgment, the Construction Illumination Standard is not reasonably necessary or appropriate under section 3(8) of the OSH Act because it does not substantially reduce a significant risk to workers. The OSHA standard does not provide significant protection beyond what would exist without the standard because the hazard—lack of illumination—is obvious to employers and employees, as is the means to address it.

Because adequate illumination is important to performing work well, OSHA expects that employers would identify and correct working conditions where inadequate illumination exists, eliminating any potential risk. However, if employers do not identify and correct the working conditions on their own, OSHA may still issue citations for this hazard under the General Duty Clause of the OSH Act, 29 U.S.C. 654(a)(1) (employers “shall furnish to each of his employees employment and a place of employment which are free from recognized hazards which are causing or likely to cause death or serious physical harm”). A specific standard for illumination is not necessary because a lack of illumination is a prototypical “recognized hazard . . . likely to cause serious death or serious physical injury” under the General Duty Clause. Moreover, OSHA has cited the illumination standard only 79 times since October 1, 2012 (for comparison, OSHA issues approximately 7,000 citations a year for fall protection violations).

For these reasons, OSHA finds that the standard is neither necessary nor appropriate under section 3(8) of the OSH Act.

IV. Preliminary Economic Analysis

Executive Orders 12866 and 13563, the Regulatory Flexibility Act (5 U.S.C. 601-612), and the Unfunded Mandates Reform Act (UMRA) (2 U.S.C. 1532(a)) require that OSHA estimate the benefits, costs, and net benefits of regulations, and analyze the impacts of certain rules that OSHA promulgates. Executive Order 13563 emphasizes the importance of quantifying both costs and benefits, reducing costs, harmonizing rules, and promoting flexibility.

This proposed rule is not a “significant regulatory action” under Executive Order 12866 or UMRA, or a “major rule” under the Congressional Review Act (5 U.S.C. 801 et seq.). Neither the benefits nor the costs of this proposed rule would exceed $100 million in any given year. Furthermore, as discussed below in Review Under the Regulatory Flexibility Act, because the proposed rule would not impose any costs, OSHA certifies that it would not have a significant economic impact on a substantial number of small entities.

For this analysis, OSHA considered the cost savings associated with no longer having to review these standards post-rescission. To estimate this annual cost savings, OSHA first estimated the number of establishments affected by these standards. The construction illumination standards impact all construction entities in the U.S. OSHA used 2022 County Business Patterns data (U.S. Census Bureau, 2024a) to represent the total number of establishments in the Construction sector. In total, there are 800,651 construction establishments as of 2022 (See OSHA, 2025, for a list of affected industries).

The proposed rescission of the standards addressing illumination will, among other things, eliminate the time necessary for new establishments and newly hired occupational health and safety specialists at existing establishments to familiarize themselves with the requirements of OSHA's Construction Illumination Standard, 29 CFR 1926.26 and 1926.56. Based on an average annual establishment entry rate of 10 percent (U.S. Census Bureau, 2024b), an average hire rate of 43.9 percent (BLS, 2025a) and 20 minutes less time spent on regulatory familiarization at a loaded hourly wage rate for a construction manager of $81.49, OSHA estimates that this deregulatory action would mean about $11.7 million in cost savings annually.

OSHA also estimated the impacts under an alternative scenario where only new entrants into the industry would be affected by the rescission of the illumination standards in construction. This scenario assumes that for non-entrant (i.e., existing) establishments within an industry, the familiarization time saved for newly hired construction managers is negligible due to knowledge of the requirements in the illumination standards retained institutionally within the business entity by team leaders and other senior production staff. For this scenario, cost savings that result from rescinding the standards in construction addressing illumination would be $2.2 million.

A third impacts scenario, one that is likely closer to the real-world environment for retention and communication of safety and health information in most workplaces, would be the midpoint of the two extreme cases described above. Under this mid-range scenario, approximately half of affected establishments would retain staff whose complete knowledge of the rescinded standards would substitute for the familiarization time needed by the newly hired construction managers. Viewed alternatively, under this mid-range scenario, all affected establishments retain veteran staff who can briefly inform the new construction manager of the status of standards such as the illumination standards in less time (roughly ten minutes) than would be necessary in the absence of institutional knowledge (twenty minutes). OSHA estimates that this would result in cost savings of $6.9 million annually.

OSHA's estimate of cost savings may underestimate total cost savings if the elimination of the labor burden for regulatory familiarization extends to the avoidance of unnecessary safety training of employees.

OSHA requests public comment on this preliminary analysis of the cost savings for employers affected by the rescission of the standards addressing illumination. Specifically, OSHA seeks comments and data on the following questions:

1. How much do employers expect to save as a consequence of the rescission of requirements in the current standard?

2. How much familiarization time would employers who are new entrants to the market be expected to save based on the revisions?

3. Are there any benefits for worker protection that can be anticipated from this proposed change?

4. Are there any costs for employers that would result from this change that OSHA has not considered?

Sources

Bureau of Labor Statistics (BLS). (2025b). Occupational Employment and Wage Statistics—May 2024 (Released April 2, 2025). Available at https://www.bls.gov/oes/tables.htm (Accessed April 11, 2025)

Bureau of Labor Statistics (BLS). (2025c). Employer Costs for Employee Compensation—December 2024 (Released March 14, 2025). Available at https://www.bls.gov/news.release/archives/ecec_03142025.htm (Accessed April 18, 2025)

Environmental Protection Agency (EPA). (2002). Revised Economic Analysis for the Amended Inventory Update Rule: Final report. August, 2002. Docket ID: EPA-HQ-OPPT-2002-0054-0260. Available at http://www.regulations.gov/#!documentDetail;D=EPA-HQ-OPPT-2002-0054-0260 (Accessed January 28, 2015)

Rice, C. (2002). Wage Rates for Economic Analysis of the Toxics Release Inventory Program. June 10, 2002

U.S. Census Bureau. (2024a). County Business Patterns 2022 (Released June 27, 2024). Available at https://www.census.gov/programs-surveys/cbp.html (Accessed July 17, 2024)

U.S. Census Bureau. (2024b). Business Dynamics Statistics. Available at https://bds.explorer.ces.census.gov/?xaxis-id=year&xaxis-selected=2018,2019,2020,2021,2022&group-id=none&measure-id=estabs_entry_rate&chart-type=bar (Accessed June 6, 2025)

Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

OSHA reviewed this proposed rescission under the provisions of the Regulatory Flexibility Act. This rule eliminates a burdensome regulation. Therefore, OSHA preliminarily concludes that the rescission would not have a “significant economic impact on a substantial number of small entities,” and that the preparation of an IRFA is not warranted. OSHA will transmit this certification and supporting statement of factual basis to the Chief Counsel for Advocacy of the Small Business Administration for review under 5 U.S.C. 605(b). OSHA requests comment on this regulatory flexibility certification.

V. Additional Requirements

i. OMB Review Under the Paperwork Reduction Act of 1995

The Paperwork Reduction Act of 1995 (“PRA”) defines “collection of information” to mean “the obtaining, causing to be obtained, soliciting, or requiring the disclosure to third parties or the public, of facts or opinions by or for an agency, regardless of form or format” (44 U.S.C. 3502(3)(A)). Under the PRA, a Federal agency cannot conduct or sponsor a collection of information unless it is approved by OMB under the PRA and the agency displays a currently valid OMB control number (44 U.S.C. 3507). Also, notwithstanding any other provisions of law, no person shall be subject to penalty for failing to comply with a collection of information if the collection of information does not display a currently valid OMB control number (44 U.S.C. 3512(a)(1)). The process for OMB approval is found in 5 CFR part 1320. This proposed rule would impose no new information collection requirements because it is a deregulatory action. Accordingly, OMB review under the PRA is not required.

ii. State Plans

Under section 18 of the OSH Act, 29 U.S.C. 651 et seq., Congress expressly provides that States may adopt, with Federal approval, a plan for the development and enforcement of occupational safety and health standards that are “at least as effective” as the Federal standards in providing safe and healthful employment and places of employment (29 U.S.C. 667). OSHA refers to these OSHA-approved, State-administered occupational safety and health programs as “State Plans.” ²

² Of the 29 States and U.S. territories with OSHA-approved State Plans, 22 cover public and private-sector employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. The remaining six States and one U.S. territory cover only State and local government employees: Connecticut, Illinois, Maine, Massachusetts, New Jersey, New York, and the Virgin Islands.

When federal OSHA promulgates a new standard or a more stringent amendment to an existing standard, State Plans must either amend their standards to be identical to, or “at least as effective as” the new Federal standard or amendment, or show that an existing State Plan standard covering this issue is “at least as effective” as the new Federal standard or amendment (29 CFR 1953.5(a)). However, when OSHA promulgates a new standard or amendment that does not impose additional or more stringent requirements than an existing standard, State Plans do not have to amend their standards, although they may opt to do so. OSHA has preliminarily determined this proposed rule does not impose additional or more stringent requirements than the existing standard, and therefore State Plans are not required to amend their standards. OSHA seeks comment on this assessment of its proposal.

iii. Environmental Impacts/National Environmental Policy Act (NEPA)

OSHA has reviewed the proposed rule according to the National Environmental Policy Act of 1969 (NEPA) (42 U.S.C. 4321 et seq.), as amended by the Fiscal Responsibility Act of 2023 (Pub. L. 118-5, 321, 137 Stat. 10), and the Department of Labor's NEPA procedures (29 CFR part 11). Under the Department's NEPA regulations, the “[p]romulgation, modification or revocation of any [OSHA] safety standard” is categorically excluded from the requirement to prepare an environmental assessment absent extraordinary circumstances indicating the potential for significant environmental effects (29 CFR 11.10(a)(1)). OSHA has preliminarily determined that no such extraordinary circumstances exist, and that this proposal would have no impact on the quality of the human environment.

iv. Other Statutory and Executive Order Considerations

OSHA has examined this proposed rule and has determined that it is consistent with the policies and directives outlined in E.O. 14192, “Unleashing Prosperity Through Deregulation.” This proposed rule is expected to be an Executive Order 14192 deregulatory action.

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities. OSHA reviewed this proposed rule under the provisions of the Regulatory Flexibility Act. This rule would eliminate burdensome regulations. Therefore, OSHA initially concludes that the impacts of the rescission would not have a “significant economic impact on a substantial number of small entities,” and that the preparation of an IRFA is not warranted. OSHA will transmit this certification and supporting statement of factual basis to the Chief Counsel for Advocacy of the Small Business Administration for review under 5 U.S.C. 605(b).

Executive Order (E.O.) 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public. Section 6(a) of E.O. 12866 also requires agencies to submit “significant regulatory actions” to OIRA for review. OIRA has determined that this proposed rule does not constitute a “significant regulatory action” under section 3(f) of E.O. 12866. Accordingly, this proposed rule was not submitted to OIRA for review under E.O. 12866.

OSHA has considered its obligations under the Unfunded Mandates Reform Act (UMRA) (2 U.S.C. 1501 et seq.), and the Executive Orders on Consultation and Coordination With Indian Tribal Governments (E.O. 13175, 65 FR 67249 (Nov. 6, 2000)), Federalism (E.O. 13132, 64 FR 43255 (Aug. 10, 1999)), and Protection of Children From Environmental Health Risks and Safety Risks (E.O. 13045, 62 FR 19885 (Apr. 23, 1997)). Given that this is a proposed deregulatory action, that OSHA does not foresee economic impacts of $100 million or more, and that the action does not constitute a policy that has federalism or tribal implications, OSHA has determined that no further agency action or analysis is required to comply with these statutes and executive orders.

VI. Authority and Signature

This document was prepared under the direction of Amanda Laihow, Acting Assistant Secretary of Labor for Occupational Safety and Health. It is issued under the authority of sections 4, 6, and 8 of the Occupational Safety and Health Act of 1970 (29 U.S.C. 653, 655, and 657); 5 U.S.C. 553; Secretary of Labor's Order No. 8-2020 (85 FR 58383); and 29 CFR part 1911.

Dated: June 20, 2025.
Amanda Laihow,
Acting Assistant Secretary of Labor for Occupational Safety and Health.

List of Subjects in 29 CFR Part 1926

Construction industry, Occupational Safety and Health, Lighting.

VII. Proposed Regulatory Text

Amendments

For the reasons set forth in the preamble, OSHA is proposing to amend 29 CFR part 1926 as follows:

PART 1926—SAFETY AND HEALTH REGULATIONS FOR CONSTRUCTION

1. The authority citation for part 1926 continues to read in part as follows:

Authority: 40 U.S.C. 3704; 29 U.S.C. 653, 655, and 657; and Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), 1-2012 (77 FR 3912), or 8-2020 (85 FR 58393), as applicable; and 29 CFR part 1911, unless otherwise noted

Subpart A—General

2. In § 1926.6, reserve paragraph (e)(4) to read as follows:

§ 1926.6 Incorporation by reference.

(e) * * *

(4) [Reserved]

* * * * *

Subpart C—General Safety and Health Provisions

3. Section 1926.26 is removed and reserved to read as follows:

§ 1926.26 [Reserved]

* * * * *

Subpart D—Occupational Health and Environmental Controls

4. Section 1926.56 is removed and reserved to read as follows:

§ 1926.56 [Reserved]

* * * * *

Subpart S—Underground Construction, Caissons, Cofferdams and Compressed Air

5. Section 1926.800 is amended by revising paragraph (l) to read as follows:

§ 1926.800 Underground construction.

* * * * *

(l) Illumination. Only acceptable portable lighting equipment shall be used within 50 feet (15.24 m) of any underground heading during explosives handling.

* * * * *

Subpart V—Electric Power Transmission and Distribution

6. Section 1926.967 is amended by removing the note to paragraph (d).

Subpart AA—Confined Spaces in Construction

7. Section 1926.1204 is amended by revising paragraph (d)(5) to read as follows:

§ 1926.1204 Permit-required confined space program.

(d) * * *

(5) Lighting equipment that is approved for the ignitable or combustible properties of the specific gas, vapor, dust, or fiber that will be present, and that is sufficient to enable employees to see well enough to work safely and to exit the space quickly in an emergency;

* * * * *

[FR Doc. 2025-11645 Filed 6-30-25; 8:45 am]

BILLING CODE 4510-26-P